DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On April 8, 2021, OFAC determined that the property and interests in property subject to U.S. jurisdiction of the following persons are blocked under the relevant sanctions authority listed below.

Entities

1. MYANMA GEMS ENTERPRISE (f.k.a. MYANMAR GEMS CORPORATION; a.k.a. MYANMAR GEMS ENTERPRISE), No. 70-072 Yarza Thingaha Road, Thapyaygone Ward, Zabuthiri Township, Naypyitaw, Burma; Rm Counter 23/24, G Flr, Mayangone, Rangoon, Burma; No. 66 Kaba Aye Pagoda Road, Mayangone Township, Rangoon, Burma [BURMA-EO14014].

Designated pursuant to section 1(a)(iv) of Executive Order 14014 of February 10, 2021, “Blocking Property With Respect to the Situation in Burma” (“the Order”) for being a political subdivision, agency, or instrumentality of the Government of Burma.

Dated: April 8, 2021.
Bradley T. Smith,
Acting Director, Office of Foreign Assets Control, U.S. Department of the Treasury.

[FR Doc. 2021-07531 Filed 4-12-21; 8:45 am]

BILLING CODE 4810-AL-P